DEPARTMENT OF HEALTH AND HUMAN SERVICES

Centers for Disease Control and Prevention

[60Day-26-1294; Docket No. CDC-2026-0005]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed revision information collection project titled Maternal Mortality Review Information Application (MMRIA). MMRIA is a standardized data collection system that allows Maternal Mortality Review Committees (MMRCs) to abstract relevant data from a variety of sources, document committee decisions, and analyze data to better understand the contributing factors and preventability of pregnancy-related deaths in order to develop recommendations for prevention.

DATES: CDC must receive written comments on or before March 16, 2026.

ADDRESSES: You may submit comments, identified by Docket No. CDC-2026-0005 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

The Maternal Mortality Review Information Application (MMRIA) (OMB Control No. 0920-1294, Exp. 05/31/2026)—Revision—National Center for Chronic Disease Prevention and Health Promotion (NCCDPHP), Centers for Disease Control and Prevention (CDC).

Background and Brief Description

The Centers for Disease Control and Prevention (CDC) seeks a Revision to continue to collect information through the Maternal Mortality Review Information Application (MMRIA) for three additional years. MMRIA is a standardized data system that allows Maternal Mortality Review Committees (MMRCs) across the United States to abstract relevant data (clinical and non-clinical) about pregnancy-associated deaths identified from a variety of sources, create case narratives to facilitate review of data, and document committee decisions such as pregnancy-relatedness of the death, contributing factors, and recommendation efforts to prevent future deaths. Deaths during pregnancy or in the year after the end of pregnancy are a tragedy for families and for society as a whole. Sadly, for over a decade, deaths in the United States resulting from pregnancy or delivery complications, a chain of events initiated by pregnancy, or the aggravation of an unrelated condition by the physiologic effects of pregnancy have remained unacceptably high. However, findings from MMRCs indicate that four of five pregnancy-related deaths are preventable. Maternal Mortality Review is a process by which a multidisciplinary committee at the jurisdiction level identifies and reviews cases of deaths occurring within one year of pregnancy. Members of MMRCs typically represent public health, obstetrics and gynecology, maternal-fetal medicine, nursing, midwifery, forensic pathology, mental health, and behavioral health. Members might also include social workers, patient advocates, and other relevant multidisciplinary stakeholders. Through a partnership among the MMRC, the state vital records office, and epidemiologists, deaths among women of reproductive age are examined to determine if they occurred during pregnancy or within a year of the end of pregnancy (i.e., pregnancy-associated deaths). Through this process, potential cases of pregnancy-related deaths (i.e., maternal death from any cause related to or aggravated by pregnancy or its management) are then identified. Review committees access multiple sources of clinical and non-clinical information to understand the circumstances surrounding a death as they develop recommendations for action to prevent similar deaths in the future. This multidisciplinary approach encourages collaboration with clinical and non-clinical partnerships to improve quality of care and address medical and non-medical drivers; a comprehensive approach to more effectively improve health outcomes.

The MMRIA is a standardized data system that MMRCs use to collect timely, accurate, and standardized information about deaths to women during pregnancy and the year after the end of pregnancy, including opportunities for prevention, within and across jurisdictions. Data will be abstracted and entered into MMRIA from various sources, including death certificates, autopsy reports, birth certificates, prenatal care records, emergency room visits records, hospitalization records, records for other medical office visits, medical transport records, social and environmental profiles, mental health profiles, and informant interviews. Case narratives are auto-populated from the abstracted data for committee review, and subsequent committee decisions are also documented in MMRIA. Burden estimates presented here are for 52 jurisdictions that receive funding through CDC-RFA-DP24-0053. As part of this cooperative agreement, these jurisdictions are required to compile in MMRIA a defined set of information about deaths that occur during pregnancy or the year after the end of pregnancy. It is estimated that information will be collected for a total of 2,832 pregnancy-associated deaths on average, annually, among the 52 jurisdictions with funding support through CDC-RFA-DP24-0053. It is estimated that on average, 15 hours of abstraction are required for each death entered into MMRIA. CDC has established a process that reduces the burden related to abstraction of vital records into MMRIA that is currently applicable to 41 of the 52 funding recipients. The estimated average is 14 hours of abstraction for each death entered into MMRIA for these 41 funding recipients. For all jurisdictions with funding support through CDC-RFA-DP24-0053, an additional 24 minutes on average is needed to enter the committee decisions into MMRIA. This Revision reflects an increase in the burden from an overall total of 33,482 (last approval) to 41,789, for a total increase of 8,307 hours. The explanation for this increase is that in the prior approval, deaths were estimated indirectly because actual counts were not available. The numbers of deaths used in this Revision are based on actual case counts among CDC-RFA-DP24-0053 funding recipients.

CDC requests OMB approval for an estimated 41,789 annual burden hours. There is no cost to respondents other than their time to participate.

Estimated Annualized Burden Hours
Type of respondents | Form name | Number of respondents | Number of responses per respondent | Average burden per response (in hours) | Total burden (in hours)
Jurisdictions with current funding support through CDC-RFA-DP24-0053 who manually abstract all data into MMRIA | MMRIA abstraction form | 11 | 55 | 15 | 9,075
Jurisdictions with current funding support through CDC-RFA-DP24-0053, for which CDC is uploading vital records into MMRIA and jurisdiction staff abstract remaining data manually into MMRIA | MMRIA abstraction form | 41 | 55 | 14 | 31,570
All jurisdictions with current funding support through CDC-RFA-DP124-0053, | MMRIA committee decision form | 52 | 55 | 0.4 | 1,144
Total |  |  |  |  | 41,789

Jeffrey M. Zirger,
Lead, Information Collection Review Office, Office of Public Health Ethics and Regulations, Office of Science, Centers for Disease Control and Prevention.

[FR Doc. 2026-00426 Filed 1-12-26; 8:45 am]

BILLING CODE 4163-18-P